DEPARTMENT OF COMMERCE

National Oceanic and Atmospheric Administration

U.S. Integrated Ocean Observing System (IOOS®) Advisory Committee Meeting

AGENCY: National Ocean Service, National Oceanic and Atmospheric Administration (NOAA), Department of Commerce.

ACTION: Notice.

SUMMARY: Notice is hereby given of a meeting of the U.S. Integrated Ocean Observing System (IOOS®) Advisory Committee (Committee) in Washington, DC.

DATES: The meeting will be held on Tuesday, April 5, 2016, from 9:00 a.m. to 5:00 p.m. and on Wednesday, April 6, 2016, from 9:00 a.m.-3:00 p.m. These times and the agenda topics described below are subject to change. Refer to the Web page listed below for the most up-to-date meeting agenda.

ADDRESSES: The meeting will be held at the Consortium for Ocean Leadership, 1201 New York Ave. NW., Washington, DC 20005.

FOR FURTHER INFORMATION CONTACT: Jessica Snowden, Designated Federal Official, U.S. IOOS Advisory Committee, U.S. IOOS Program, 1315 East-West Highway, Second Floor, Silver Spring, MD 20910; Phone 240-533-9466; Fax 301-713-3281; Email jessica.snowden@noaa.gov or visit the U.S. IOOS Advisory Committee Web site at http://www.ioos.noaa.gov/advisorycommittee.

SUPPLEMENTARY INFORMATION: The Committee was established by the NOAA Administrator as directed by Section 12304 of the Integrated Coastal and Ocean Observation System Act, part of the Omnibus Public Land Management Act of 2009 (Pub. L. 111-11). The Committee advises the NOAA Administrator and the Interagency Ocean Observation Committee (IOOC) on matters related to the responsibilities and authorities set forth in section 12302 of the Integrated Coastal and Ocean Observation System Act of 2009 and other appropriate matters as the Under Secretary refers to the Committee for review and advice. The Committee will provide advice on:

(a) Administration, operation, management, and maintenance of the System;

(b) expansion and periodic modernization and upgrade of technology components of the System;

(c) identification of end-user communities, their needs for information provided by the System, and the System's effectiveness in dissemination information to end-user communities and to the general public; and

(d) any other purpose identified by the Under Secretary of Commerce for Oceans and Atmosphere or the Interagency Ocean Observation Committee.

The meeting will be open to public participation with a 30-minute public comment period on April 5, 2016, from 4:30 p.m. to 4:45 p.m. and on April 6, 2016, from 2:30 p.m. to 2:45 p.m. (check agenda on Web site to confirm time.) The Committee expects that public statements presented at its meetings will not be repetitive of previously submitted verbal or written statements. In general, each individual or group making a verbal presentation will be limited to a total time of three (3) minutes. Written comments should be received by the Designated Federal Official by March 22, 2016 to provide sufficient time for Committee review. Written comments received after March 22, 2016, will be distributed to the Committee, but may not be reviewed prior to the meeting date. Seats will be available on a first-come, first-served basis.

Matters To Be Considered: The meeting will focus on ongoing committee priorities, including messaging IOOS to a new administration, incorporating more biological data variables, and increasing engagement with industry. This meeting will also focus specifically on how the U.S. IOOS federal agencies may better leverage their existing assets. The agenda is subject to change. The latest version will be posted at http://www.ioos.noaa.gov/advisorycommittee.

Special Accomodations: These meetings are physically accessible to people with disabilities. Requests for sign language interpretation or other auxiliary aids should be directed to Jessica Snowden, Designated Federal Official at 240-533-9466 by March 22, 2016.

Dated: March 1, 2016.
Zdenka Willis,
Director, U.S. IOOS Program, National Ocean Service.

[FR Doc. 2016-05782 Filed 3-14-16; 8:45 am]

BILLING CODE P